DEPARTMENT OF THE INTERIOR

Fish and Wildlife Service

[FWS-R5-ES-2011-N164; 50120-1112-0000-F2]

Application for an Incidental Take Permit for the Madison Cave Isopod From Dominion Virginia Power; Low-Effect Habitat Conservation Plan

AGENCY: Fish and Wildlife Service, Interior.

ACTION: Notice of receipt of application.

SUMMARY: Pursuant to the Endangered Species Act (ESA) and the National Environmental Policy Act (NEPA), the U.S. Fish and Wildlife Service (Service or “we”) announces the availability of an application for an Incidental Take Permit (ITP) and a proposed Low-Effect Habitat Conservation Plan (LEHCP) from Dominion Virginia Power for public review and comment. We received the permit application from Dominion Virginia Power for incidental take of the Madison Cave isopod during construction of a new natural gas-fired combined-cycle power station in Warren County, Virginia, extending over the next 9 years, until 2020. Our preliminary determination is that the Habitat Conservation Plan (HCP) qualifies as a low-effect plan under NEPA. To make this determination, we used our LEHCP Screening Form/Environmental Action Statement (EAS), which is also available for review.

We provide this notice to (1) seek public comments on the proposed HCP and application; (2) seek public comments on our preliminary determination that the HCP qualifies as a low-effect plan and is therefore eligible for a categorical exclusion under NEPA; and (3) advise other Federal and State agencies, affected Tribes, and the public of our intent to issue an ITP.

DATES: The draft HCP and preliminary EAS are being made available during a 30-day public review period. To ensure consideration, we must receive your written comments by September 21, 2011.

ADDRESSES: Send comments by U.S. mail to Sumalee Hoskin, U.S. Fish and Wildlife Service, Virginia Field Office, 6669 Short Lane, Gloucester, VA 23061; by fax at (804) 693-9032; or by electronic mail at sumalee_hoskin@fws.gov. In the subject line of your letter, fax, or electronic mail, include the document identifier “Warren County Power Station HCP.”

FOR FURTHER INFORMATION CONTACT: Sumalee Hoskin, Fish and Wildlife Biologist, Virginia Field Office (VAFO) (see ADDRESSES); telephone (804) 693-6694; electronic mail: sumalee_hoskin@fws.gov.

SUPPLEMENTARY INFORMATION: We received a permit application from Dominion Virginia Power for incidental take of the federally listed Madison Cave isopod over the next 9 years during construction of a new natural gas-fired combined-cycle power station in Warren County, Virginia. A conservation program to minimize and mitigate for the incidental take would be implemented by Dominion Virginia Power as described in the proposed Dominion Virginia Power LEHCP.

We prepared a preliminary EAS to comply with NEPA. The Service will evaluate whether the proposed action and issuance of an ITP to Dominion Virginia Power are adequate to support a categorical exclusion. This notice is provided pursuant to section 10(c) of the ESA and NEPA regulations (40 CFR 1506.6).

We are requesting comments on the proposed HCP and our preliminary determination that the HCP qualifies as low-effect under NEPA.

Availability of Documents

The proposed LEHCP and preliminary EAS are available on the VAFO's Web site at: http://www.fws.gov/northeast/virginiafield/. Copies of the proposed LEHCP and preliminary EAS will be available for public review during regular business hours at the VAFO (see ADDRESSES). Those who do not have access to the Web site or cannot visit our office can request copies by telephone at (804) 693-6694 or by letter to the VAFO (see ADDRESSES).

Background

Section 9 of the ESA (16 U.S.C. 1531 et seq.) and its implementing regulations prohibit the “take” of animal species listed as endangered or threatened. Take is defined under the ESA as to “harass, harm, pursue, hunt, shoot, wound, kill, trap, capture, or collect listed animal species, or to attempt to engage in such conduct” (16 U.S.C. 1538). However, under section 10(a) of the ESA, we may issue permits to authorize incidental take of listed species. “Incidental take” is defined by the ESA as take that is incidental to, and not the purpose of, carrying out an otherwise lawful activity. Regulations governing ITPs for threatened and endangered species are found in the Code of Federal Regulations at 50 CFR 17.22 and 50 CFR 17.32, respectively.

Dominion Virginia Power is seeking a permit for the incidental take of the federally listed threatened Madison Cave isopod during construction activities and post-construction monitoring period extending for a total term of 9 years, until 2020. Permit coverage does not include plant operational activities, as these are not anticipated to cause take of the Madison Cave isopod. Dominion Virginia Power proposes to construct a natural gas-fired combined-cycle power station that is anticipated to be one of the most efficient power plants in the nation once operational. Incidental take of the Madison Cave isopod may occur from disturbance of the subterranean karst, which is habitat the species occupies, during construction. Additional information can be found in the proposed LEHCP and on our Web site.

The LEHCP's proposed conservation strategy is designed to avoid, minimize, and mitigate the impacts of covered activities on the covered species. The biological goals and objectives are to protect high-quality habitat for a known Madison Cave isopod population.

The Proposed Action consists of the issuance of an ITP and implementation of the proposed LEHCP. Three alternatives to the proposed action were considered in the LEHCP: A no-project alternative, alternative sites, and alternative construction procedures. These three alternatives were deemed impracticable by Dominion Virginia Power because of logical, law enforcement, and wildlife management reasons.

The plant will be fueled by natural gas delivered to the site through gas pipelines regulated by the Federal Energy Regulatory Commission. These pipelines are undergoing independent analysis under the ESA, NEPA, and other environmental regulations.

National Environmental Policy Act

We have made a preliminary determination that the Dominion Virginia Power's proposed LEHCP, including the proposed avoidance, minimization, and mitigation measures, will have a minor or negligible effect on the species covered in the HCP, and that the HCP qualifies as a “low-effect” HCP as described in the U.S. Fish and Wildlife Service Habitat Conservation Planning Handbook (November 1996).

As further explained in our preliminary EAS, included for public review, we preliminarily determine that the HCP qualifies as a LEHCP based on the following three reasons:

1. Implementation of the HCP would result in minor or negligible effects on federally listed, proposed, and candidate species and their habitats;

2. Implementation of the plan would result in minor or negligible effects on other environmental values or resources; and

3. Impacts of the plan, considered together with the impacts of other past, present, and reasonably foreseeable similarly situated projects, would not result, over time, in cumulative effects to environmental values or resources that would be considered significant.

Based on these reasons, the incidental take permit also, therefore, qualifies for a categorical exclusion under NEPA, as provided by the Department of the Interior's NEPA implementing regulations (43 CFR 46.205, 46.210 and 46.215) and the Departmental Manual (516 DM 2 Appendix 1 and 516 DM 8). Based on our review of public comments that we may receive in response to this notice, we may revise this preliminary determination.

Next Steps

We will evaluate the draft HCP and preliminary LEHCP Screening Form/EAS and comments we receive to determine whether the permit application meets the requirements of section 10(a) of the ESA and qualifies as a “low-effect” HCP and for a categorical exclusion under NEPA. We will also evaluate whether issuance of a section 10(a)(1)(B) permit would comply with section 7 of the ESA by conducting an intra-Service section 7 consultation. We will use the results of this consultation, in combination with the above findings, in our final analysis to determine whether to issue an ITP. If the requirements are met, we will issue the ITP to the applicant.

Public Comments

The Service invites the public to comment on the proposed HCP and preliminary EAS during a 30-day public review period (see DATES). Comments can be submitted to VAFO (see ADDRESSES). All comments received, including names and addresses, will become part of the administrative record and may be made available to the public. Before including your address, phone number, email address, or other personal identifying information in your comment, you should be aware that your entire comment—including your personal identifying information—may be made publicly available at any time. While you may request at the top of your document that we withhold your personal identifying information from public review, we cannot guarantee that we will be able to do so.

Dated: August 10, 2011.
Kenneth D. Elowe,
Acting Regional Director, Northeast Region.

[FR Doc. 2011-21425 Filed 8-19-11; 8:45 am]

BILLING CODE 4310-55-P